ENVIRONMENTAL PROTECTION AGENCY

[MN83-1; FRL-7658-1]

Notice of Issuance of Prevention of Significant Deterioration and Part 71 Federal Operating Permits to Energy Alternatives, Inc.

AGENCY: Environmental Protection Agency.

ACTION: Notice.

SUMMARY: This notice announces that, pursuant to Part C and Title V of the Clean Air Act, on December 20, 2000, and February 23, 2004, the Environmental Protection Agency (EPA), Region 5 issued a Prevention of Significant Deterioration (PSD) Construction Permit and a Title V Permit to Operate (Title V Permit), to Energy Alternatives Inc. These permits authorize the company to construct and operate four diesel-fired internal combustion engines to provide peak load management and back-up power to the Treasure Island Resort & Casino. The engines and the casino are located in Red Wing, Minnesota on the Prairie Island Indian Reservation.

DATES: The PSD and Title V Permits became effective on January 10, 2001, and April 8, 2004, respectively. Both permits have undergone the required public comment periods in accordance with title 40 of the Code of Federal Regulations (CFR) sections 52.21(q) and 71.11, and have been issued as final.

ADDRESSES: The final signed permits are available for public inspection online at http://www.epa.gov/region5/air/permits/epermits.htm or during normal business hours at the following address: EPA, Region 5, 77 West Jackson Boulevard (AR-18J), Chicago, Illinois 60604.

FOR FURTHER INFORMATION CONTACT: Ethan Chatfield, EPA, Region 5, 77 W. Jackson Boulevard (AR-18J), Chicago, Illinois 60604, (312) 886-5112, or chatfield.ethan@epa.gov.

SUPPLEMENTARY INFORMATION: This supplemental information is organized as follows:

A. What Is the Background Information?

B. What Action Is EPA Taking?

A. What Is the Background Information?

The four internal combustion diesel-fired engines are owned and operated by Energy Alternatives, Inc., and installed northeast of the Treasure Island Resort & Casino at the Prairie Island Community Wastewater Treatment Facility (Facility). The total generation capacity of the engines is 7.3 megawatts (MW). Electricity generated at the Facility is not sold for distribution.

Since the potential emissions from the four engines was estimated to be greater than 250 tons per year for nitrogen oxides (NOX), in accordance with 40 CFR part 52.21(b)(1), the Facility is considered a major stationary source and subject to the PSD permitting requirements. As required by 40 CFR part 52, Energy Alternatives applied to EPA for a PSD permit and conducted a Best Available Control Technology (BACT) analysis, an air quality analysis, and the additional impact analyses. The Federal PSD Construction Permit (No. PSD-PI-R50003-00-01) EPA issued to the Facility contained all applicable part 52 requirements. Within this permit, the Facility also chose to accept a 550 hrs/year operating limit on all four engines combined, restricting the Facility's potential to emit emissions.

Since Energy Alternatives, Inc. is considered a major source, was issued a PSD permit, and is located on tribal land, in accordance with 40 CFR part 71.3(a), the Facility is subject to the Title V permitting requirements of part 71. On February 23, 2004, EPA issued a Federal Permit to Operate (No. V-PI-R50004-03-01) which incorporated all applicable air quality requirements, including any monitoring necessary to ensure compliance with these requirements. In accordance with the requirements of 40 CFR 71.11(d), EPA provided the public with the required 30 days to comment on the draft permit. Since EPA did not receive any written comments on the permits, EPA finalized the permit and provided copies to the applicant, pursuant to 40 CFR 71.11(i).

EPA is not aware of any outstanding enforcement actions against Energy Alternatives, Inc. and believes issuance of these permits is non-controversial.

B. What Action Is EPA Taking?

EPA is notifying the public of the issuance of the PSD and part 71 permits to Energy Alternatives, Inc.

Dated: April 19, 2004.
Bharat Mathur,
Acting Regional Administrator, Region 5.

[FR Doc. 04-10344 Filed 5-5-04; 8:45 am]

BILLING CODE 6560-50-P